DEPARTMENT OF HOMELAND SECURITY

Coast Guard

DEPARTMENT OF TRANSPORTATION

Maritime Administration

[USCG-2004-16860]

Gulf Landing LLC Liquefied Natural Gas Deepwater Port License Application; Final Environmental Impact Statement

AGENCY: Coast Guard, DHS; Maritime Administration, DOT.

ACTION: Notice of availability.

SUMMARY: The Coast Guard and the Maritime Administration (MARAD) announce the availability of the final environmental impact statement (FEIS) for the Gulf Landing LLC Liquefied Natural Gas Deepwater Port License Application, and request public comments. The FEIS covers the construction and operation of the proposed deepwater port and associated anchorages on the Outer Continental Shelf in the Gulf of Mexico, West Cameron Lease Block Number 213, approximately 38 miles south of Cameron, Louisiana.

DATES: Comments and related material must reach the Docket Management Facility on or before January 3, 2005.

ADDRESSES: The FEIS is available in the docket on the Internet at http://dms.dot.gov under docket number USCG-2004-16860, or by contacting the Coast Guard (see FOR FURTHER INFORMATION CONTACT), or by contacting: Docket Management Facility, U.S. Department of Transportation, 400 Seventh Street SW., Washington, DC 20590-0001.

The Docket Management Facility accepts hand-delivered submissions, and makes docket contents available for public inspection and copying, at this address, in room PL-401, between 9 a.m. and 5 p.m., Monday through Friday, except Federal holidays. The Facility's telephone is 202-366-9329, its fax is 202-493-2251, and its Web site for electronic submissions or for electronic access to docket contents is http://dms.dot.gov.

FOR FURTHER INFORMATION CONTACT: Lieutenant Commander Derek Dostie, U.S. Coast Guard, telephone: 202-267-0662, email: ddostie@comdt.uscg.mil. If you have questions on viewing the docket, call Andrea M. Jenkins, Program Manager, Docket Operations, telephone: 202-366-0271.

SUPPLEMENTARY INFORMATION:

Request for Comments

We ask that you submit your comments, or other relevant information, on the FEIS. We will consider all comments and material received during the comment period.

Submissions should include:

• Docket number USCG-2004-16860.

• Your name and address.

• Your reasons for making each comment or for bringing information to our attention.

Submit comments or material using only one of the following methods:

• Electronic submission to the Docket Management Facility's Docket Management System (DMS), http://dms.dot.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the DMS Web site (http://dms.dot.gov), and will include any personal information you provide. Therefore, submitting this information makes it public. You may wish to read the Privacy Act notice that is available on the DMS Web site, or the Department of Transportation Privacy Act Statement that appeared in the Federal Register on April 11, 2000 (65 FR 19477).

You may view docket submissions at the Docket Management Facility (see ADDRESSES, or electronically on the DMS Web site.

Supplementary Information:

License Application

Deepwater ports must be licensed, and the license process is governed by the Deepwater Port Act of 1974, as amended, 33 U.S.C. 1501 et seq. The Gulf Landing Deepwater Port license application was submitted to the Secretary of Transportation on November 3, 2003. Additional information concerning the contents of the application can be found online at http://dms.dot.gov under docket number USCG-2004-16860, or in the notice of application published in the Federal Register at 69 FR 3165 (Jan. 22, 2004), pages 3165-3167.

Proposed Deepwater Port

The application plan calls for construction of a deepwater port and associated anchorages in an area situated in the Gulf of Mexico, approximately 38 miles south of Cameron, Louisiana, in West Cameron Lease Block Number 213, in water depth of approximately 55 feet, and adjacent to an existing shipping fairway servicing the Calcasieu River and area ports.

Gulf Landing's terminal would be capable of storing up to 200,000 cubic meters of liquefied natural gas (LNG). On average, Gulf Landing expects the terminal would vaporize and deliver 1 billion cubic feet per day (Bcfd) of natural gas to the pipelines; with a peak daily send-out rate of 1.2 Bcfd. Gulf Landing proposes to construct, own, and operate up to 5 offshore pipelines, ranging from 16 to 36 inches in diameter that would traverse a combined 65.7 nautical miles. The pipelines would interconnect with existing natural gas pipelines located in the Gulf of Mexico. Gas would then be delivered to the onshore national pipeline grid for delivery to any consumption market east of the Rocky Mountains.

The project would consist of two concrete gravity base structures (GBSs) housing the LNG containment facilities, along with topside unloading and vaporization equipment, living quarters, and a ship berthing system.

The terminal would be able to receive LNG carriers with cargo capacities between 125,000 and 200,000 cubic meters and unload up to 135 LNG carriers per year. All marine systems, communication, navigation aids and equipment necessary to conduct safe LNG carrier operations and receiving of cargo during specified atmospheric and sea states would be provided at the port.

The regasification process would consist of lifting the LNG from storage tanks, pumping the cold liquid to pipeline pressure, subsequent vaporization of the LNG across heat exchanging equipment, and send-out through custody transfer metering to the gas pipeline network. No gas conditioning is required for the terminal since the incoming LNG would be pipeline quality.

Dated: November 29, 2004.
Joseph J. Angelo,
Director of Standards, Marine Safety, Security, and Environmental Protection, U.S. Coast Guard.
H. Keith Lesnick,
Senior Transportation Specialist, Deepwater Ports Program Manager, U.S. Maritime Administration.

[FR Doc. 04-26580 Filed 12-2-04; 8:45 am]

BILLING CODE 4910-15-P